DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On July 5, 2018, OFAC determined that the property and interests in property subject to U.S. jurisdiction of the following persons are blocked under the relevant sanctions authorities listed below.

Individuals

1. DIAZ, Francisco (a.k.a. DIAZ MADRIZ, Francisco Javier), Residencial Lomas del Valle, Casa U5, Managua, Nicaragua; DOB 03 Aug 1961; POB Chinandega, Nicaragua; nationality Nicaragua; Gender Male; National ID No. 0810308610000L (individual) [GLOMAG].

Designated pursuant to section 1(a)(ii)(C)(1) of Executive Order 13818 of December 20, 2017, “Blocking the Property of Persons Involved in Serious Human Rights Abuse or Corruption” (E.O. 13818) and 31 CFR part 583, the Global Magnitsky Sanctions Regulations, (the GMSR) for being or having been a leader or official of the Nicaraguan National Police, an entity that has engaged in, or whose members have engaged in, serious human rights abuse relating to the leader's or official's tenure.

2. MORENO, Fidel (a.k.a. MORENO BRIONES, Fidel Antonio), Managua, Nicaragua; DOB 26 Feb 1974; POB Nicaragua; nationality Nicaragua; Gender Male (individual) [GLOMAG].

Designated pursuant to section 1(a)(ii)(A) of E.O. 13818 and the GMSR for being responsible for or complicit in, or having directly or indirectly engaged in, serious human rights abuse.

Also designated pursuant to section 1(a)(ii)(C)(1) of E.O. 13818 and the GMSR for being or having been a leader or official of the Sandinista Youth, an entity that has engaged in, or whose members have engaged in, serious human rights abuse relating to the leader's or official's tenure.

3. LOPEZ, Jose Francisco (a.k.a. LOPEZ CENTENO, Jose Francisco; a.k.a. “Chico”); DOB 17 Sep 1950; nationality Nicaragua; Gender Male; Passport C0915261 (Nicaragua) (individual) [GLOMAG].

Designated pursuant to section 1(a)(ii)(B)(1) of E.O. 13818 for being a current or former government official, or a person acting for or on behalf of such an official, who is responsible for or complicit in, or has directly or indirectly engaged in, corruption, including the misappropriation of state assets, the expropriation of private assets for personal gain, corruption related to government contracts or the extraction of natural resources, or bribery.

Dated: September 5, 2018.
Andrea Gacki,
Acting Director, Office of Foreign Assets Control.

[FR Doc. 2018-19590 Filed 9-7-18; 8:45 am]

BILLING CODE 4810-AL-P